DEPARTMENT OF THE INTERIOR

Bureau of Land Management

43 CFR Part 8360

[LLCAC09000 L12200000 NU0000 21X]

Notice of Proposed Supplementary Rule for Public Lands in the Cotoni-Coast Dairies Unit of the California Coastal National Monument in Santa Cruz County, CA

AGENCY: Bureau of Land Management, Interior.

ACTION: Proposed supplementary rule.

SUMMARY: The Bureau of Land Management (BLM) is proposing a supplementary rule for all public lands within the Cotoni-Coast Dairies unit of the California Coastal National Monument in Santa Cruz County, California. The proposed supplementary rule would allow the BLM to manage recreation, address public safety, and provide resource protection on BLM-administered public lands within the Cotoni-Coast Dairies unit of the California Coastal National Monument.

DATES: Comments on the proposed supplementary rule must be received or postmarked by January 30, 2023 to be assured of consideration.

ADDRESSES: Written comments on the proposed supplementary rule can be delivered to the Bureau of Land Management, BLM Central Coast Field Office, 940 2nd Ave., Marina, CA 93933, or emailed to: blm_ca_cotoni_coast_dairies@blm.gov.

A link to this notice and a map depicting the area that would be affected by the proposed supplementary rule will be available to the public for review on the BLM website at https://www.blm.gov/cotoni-coast-dairies, and in the Central Coast Field Office.

FOR FURTHER INFORMATION CONTACT: Sky Murphy, Planning and Environmental Coordinator, BLM Central Coast Field Office; telephone: (831) 582-2200, email: smurphy@blm.gov.

Individuals in the United States who are deaf, deafblind, hard of hearing, or have a speech disability may dial 711 (TTY, TDD, or TeleBraille) to access telecommunications relay services for contacting Sky Murphy. Individuals outside the United States should use the relay services offered within their country to make international calls to the point-of-contact in the United States.

SUPPLEMENTARY INFORMATION:

I. Public Comment Procedures

Written comments on the proposed supplementary rule should be specific, confined to issues pertinent to the proposed supplementary rule, and should explain the reason for any recommended change. Where possible, comments should reference the specific section or paragraph of the rule that the comment is addressing. The BLM need not consider comments that the BLM receives after the close of the comment period (see DATES), unless they are postmarked or electronically dated before the deadline, or comments delivered to an address other than those listed earlier (see ADDRESSES).

Before including your address, telephone number, email address, or other personal identifying information in your comment, be advised that your entire comment, including your personal identifying information, may be made publicly available at any time. While you can ask us in your comment to withhold from public review your personal identifying information, we cannot guarantee that we will be able to do so. All submissions from organizations and businesses, and from individuals identifying themselves as representatives or officials of organizations or businesses, will be available for public inspection in their entirety.

Upon its completion, the final supplementary rule will be available for inspection in the Central Coast Field Office (see ADDRESSES). The BLM will announce the publication of the final rule broadly through the news media and direct mail to the constituents included on the BLM mail list. The BLM will also provide information to interested agencies and organizations.

II. Background

The BLM establishes supplementary rules under the authority of 43 CFR 8365.1-6, which allows BLM State Directors to establish such rules for the protection of persons, property, and public lands and resources. This regulatory provision allows the BLM to issue rules of less than national effect without codifying the rules in the Code of Federal Regulations.

III. Discussion of Proposed Supplementary Rule

The BLM completed the Cotoni-Coast Dairies Resource Management Plan (RMP) Amendment on June 23, 2021, to establish land use decisions that protect the objects and values of the Cotoni-Coast Dairies unit of the California Coastal National Monument and support responsible recreation opportunities. Public participation during planning for use and enjoyment of the Cotoni-Coast Dairies unit indicates that it will be a popular area and a supplementary rule is needed to allow for law enforcement to enforce decisions to manage recreation and protect cultural and natural resources.

Thus, the proposed supplementary rule would apply to all the BLM-administered lands in the Cotoni-Coast Dairies unit. Persons performing essential operations central to the BLM's mission would be exempt. Such persons would include, for example, members of any organized law enforcement, rescue, or fire-fighting force.

The proposed supplementary rule is needed to provide consistency and uniformity for visitors to BLM-administered lands, prevent resource damage and user conflicts, and provide greater safety to the visiting public. Therefore, a supplementary rule is necessary to address the following issues and concerns:

Resource Damage: Presidential Proclamation 9563 added the Cotoni-Coast Dairies unit to the California Coastal National Monument and identified resource objects and values to be protected. A supplementary rule is needed to ensure protection of these resources, particularly biological and cultural resources.

Public Safety: As visitation increases among all types of recreational users, so do the conflicts between user groups. In crowded areas, conflicts among users increase risk to visitor safety. Other recreationists and nearby landowners also have concerns for their personal safety, as well as damage to property. A supplementary rule is needed to avoid or minimize such conflicts.

At present, no supplementary rules are in effect for BLM-administered lands in the Cotoni-Coast Dairies unit. Therefore, this supplementary rule is needed to address management issues and concerns with respect to public use of this area.

IV. Procedural Matters

Executive Order 12866, Regulatory Planning and Review and Executive Order 13563—Improving Regulation and Regulatory Review

This proposed supplementary rule is not a significant regulatory action and is not subject to review by the Office of Management and Budget under Executive Order 12866. The proposed supplementary rule would not have an annual effect of $100 million or more on the economy. It is not intended to affect commercial activity, but rather impose rules of conduct on recreational visitors for public safety and resource protection reasons in a limited area of public lands. This proposed supplementary rule would not adversely affect, in a material way, the economy, productivity, competition, jobs, the environment, public health or safety, or state, local, or Tribal governments or communities. This proposed supplementary rule would not create a serious inconsistency or otherwise interfere with an action taken or planned by another agency. This proposed supplementary rule would not materially alter the budgetary effects of entitlements, grants, user fees, or loan programs, or the right or obligations of their recipients, nor does it raise novel legal or policy issues. It merely strives to protect public safety and the environment.

Regulatory Flexibility Act

Congress enacted the Regulatory Flexibility Act (RFA), 5 U.S.C. 601-612, to ensure that government regulations do not unnecessarily or disproportionately burden small entities. The RFA requires a regulatory flexibility analysis if a rule would have a significant economic impact, either detrimental or beneficial, on a substantial number of small entities. The proposed supplementary rule does not pertain specifically to commercial or governmental entities of any size, but to public recreational use of specific public lands. Therefore, the BLM has determined that under the RFA the proposed supplementary rule would not have a significant economic impact on a substantial number of small entities.

Small Business Regulatory Enforcement Fairness Act

This proposed supplementary rule would not constitute a “major rule” as defined at 5 U.S.C. 804(2). This proposed supplementary rule merely contains rules of conduct for recreational use of public lands. This proposed supplementary rule would not affect business, commercial, or industrial use of the public lands.

Unfunded Mandates Reform Act

This proposed supplementary rule would not impose an unfunded mandate on State, local, or Tribal governments in the aggregate, or the private sector, of more than $100 million per year; nor would it have a significant or unique effect on small governments. This proposed supplementary rule does not require anything of state, local, or Tribal governments. Therefore, the BLM is not required to prepare a statement containing the information required by the Unfunded Mandates Reform Act, 2 U.S.C. 1531 et seq.

Executive Order 12630, Governmental Actions and Interference With Constitutionally Protected Property Rights (Takings)

This proposed supplementary rule would not affect a taking of private property or otherwise have taking implications under Executive Order 12630. This proposed supplementary rule would not address property rights in any form and would not impair any property rights. Therefore, the BLM has determined that this proposed supplementary rule would not cause a taking of private property or require further discussion of takings implications under this Executive Order.

Executive Order 13132, Federalism

This proposed supplementary rule would not have a substantial direct effect on the states, on the relationship between the Federal government and the states, or on the distribution of power and responsibilities among the various levels of government. This proposed supplementary rule would apply to a limited area of land in only one state, California. This proposed supplementary rule contains rules of conduct for recreational use of BLM-administered public lands to protect public safety and the environment. Therefore, the BLM has determined that this proposed supplementary rule would not have sufficient federalism implications to warrant preparation of a federalism assessment.

Executive Order 12988, Civil Justice Reform

Under Executive Order 12988, the BLM has determined that this proposed supplementary rule would not unduly burden the judicial system and that the requirements of sections 3(a) and 3(b)(2) of the Order are met. More specifically, this proposed rule meets the criteria of section 3(a), which requires agencies to review all regulations to eliminate errors and ambiguity and to write all regulations to minimize litigation. This proposed rule also meets the criteria of section 3(b)(2), which requires agencies to write all regulations in clear language with clear legal standards.

Executive Order 13175, Consultation and Coordination With Indian Tribal Governments

The Department strives to strengthen its government-to-government relationship with Indian Tribes through a commitment to consultation with Indian Tribes and recognition of their right to self-governance and Tribal sovereignty. The BLM evaluated this proposed rule under the Department's consultation policy and under the criteria in Executive Order 13175 to identify possible effects of the rule on federally recognized Indian Tribes. The BLM has found that this proposed supplementary rule would have no substantial direct effects on federally recognized Indian Tribes and that consultation under the Department's Tribal consultation policy is not required. This proposed supplementary rule would not affect lands held in trust for the benefit of Native American Tribes, individual Indians, Aleuts, or others.

Paperwork Reduction Act

This proposed supplementary rule does not contain information collection requirements that the Office of Management and Budget must approve under the Paperwork Reduction Act, 44 U.S.C. 3501 et seq.

National Environmental Policy Act

The BLM's Cotoni-Coast Dairies RMP Amendment and Environmental Assessment, dated September 25, 2020, states that the BLM will incorporate rules and regulations to address the potential impacts of visitor use at Cotoni-Coast Dairies (p. 59). The proposed supplementary rule directly addresses conduct related to the allowable uses identified in the Cotoni-Coast Dairies Decision Record for the Approved Resource Management Plan Amendment dated June 23, 2021, to protect the environment and public safety. As documented in Environmental Assessment DOI-BLM-CA-C090-2019-0035-EA, and the associated Finding of No Significant Impact, the proposed supplementary rule does not constitute a major Federal action significantly affecting the quality of the human environment under Section 102(2)(C) of the National Environmental Policy Act of 1969 (NEPA), 42 U.S.C. 4332(2)(C). Therefore, a detailed statement under NEPA is not required.

Executive Order 13211, Actions Concerning Regulations That Significantly Affect Energy Supply, Distribution, or Use

This proposed supplementary rule would not comprise a significant energy action. This supplementary rule would not have an adverse effect on energy supplies, production, or consumption. It only addresses rules of conduct for recreational use of BLM-administered public lands to protect public safety and the environment and has no connection with energy policy.

Clarity of the Proposed Supplementary Rule

Executive Order 12866 and Executive Order 13563 require each agency to write regulations that are simple and easy to understand. The BLM invites your comments on how to make this proposed supplementary rule easier to understand, including answers to questions such as the following:

(1) Are the requirements in the proposed supplementary rule clearly stated?

(2) Does the proposed supplementary rule contain technical language or jargon that interferes with its clarity?

(3) Does the format of the proposed supplementary rule (grouping and order of sections, use of headings, paragraphing, etc.) aid or reduce its clarity?

(4) Would the proposed supplementary rule be easier to understand if it were divided into more (but shorter) sections?

(5) Is the description of the proposed supplementary rule in Section III: Discussion of the Proposed Supplementary Rule, helpful in understanding the proposed supplementary rule? How could this description be more helpful in making the proposed supplementary rule easier to understand?

Please send any comments you may have on the clarity of the proposed supplementary rule to one of the addresses specified in the ADDRESSES section before the close of the comment period specified in the DATES section.

Author

The principal author of the proposed supplementary rule is Nicholas Lasher, BLM Law Enforcement Officer for the Central Coast Field Office, California.

V. Proposed Rule

For the reasons stated in the Section III: Discussion of the Proposed Supplementary Rule, and under the authority for supplementary rules at 43 U.S.C. 1740 and 43 CFR 8365.1-6, the California State Director, Bureau of Land Management, proposes to issue this supplementary rule that would apply to all public lands included in the Cotoni-Coast Dairies unit (Cotoni-Coast Dairies) of the California Coastal National Monument to read as follows:

Definitions

Designated roads and trails means any road or trail that the BLM has posted as open for public use.

Pet means any domestic animal that is not classified as a “service animal”.

Public lands means any lands or interest in lands managed by the BLM.

Public road means any road, dirt or otherwise, on which public motorized vehicular traffic is permitted.

Recreational target shooting means shooting a weapon for recreational purposes when game is not being pursued. Weapon means any firearm, cross bow, bow and arrow, paint gun, fireworks, or explosive device capable of propelling a projectile either by means of an explosion or by string or spring.

Service animal means a dog, or other animal, that is individually trained to do work or perform tasks for people with disabilities as covered under the Americans with Disabilities Act.

Traffic control devices means markers, signs, and signal devices used to inform, guide, and control traffic, including pedestrians, motorists, cyclists, or electronic mobility products.

Unattended pet means any pet that is unaccompanied by an owner or handler, even if on a tether, within a crate, or within an unoccupied motor vehicle.

Unmanned aerial vehicle means any aircraft without a human pilot on board.

Restrictions on Public Lands in the Cotoni Coast Dairies Unit of the California Coastal National Monument

1. All public use is restricted to designated roads and trails.

2. Bicycles and bicycle riding are prohibited except on designated roads and trails that are posted as open for bicycle and bicycle riding use.

3. Class I and Class II electric bicycles, as defined in 43 CFR 8340.0-5(j), and riding electric bikes are prohibited except on designated roads and trails that are posted as open for their use. All other electric bicycles and other electric mobility products are prohibited except within established parking areas and public roads.

4. Horseback riding is prohibited except on designated roads and trails that are posted as open for horseback riding use.

5. Violation of any posted sign, rule, or notification, including any traffic control devices, is prohibited.

6. Established parking areas are for the use of visitors to Cotoni-Coast Dairies unit of the California Coastal National Monument only.

7. Use and occupancy of all lands within the Cotoni-Coast Dairies are prohibited from ½ hour after sunset to ½ hour before sunrise.

8. Pets are prohibited except on designated roads and trails that are posted as open for their use. Service animals are exempt from this rule.

9. All pets must be physically restrained, or on a leash or cord not to exceed 6 feet in length, at all times.

10. Visitors are prohibited from leaving a pet unattended.

11. It is unlawful for the owner or person having custody of any pet to allow pet feces to remain on Cotoni-Coast Dairies, either willfully or through failure to exercise due care or control, other than within trash receptacles provided for such purposes.

12. Fires of any kind are prohibited, including open fire, wood, charcoal, and gas.

13. Abandoning property or leaving property unattended for more than 24 hours is prohibited. The BLM may remove and appropriately dispose of unattended property.

14. Construction or building of any structure is prohibited.

15. Placing flagging, markings, or signs of any kind is prohibited.

16. Possession or use of a mineral or metal detector, magnetometer, side scan sonar, other metal detecting device, or sub-bottom profiler is prohibited.

17. The taking of wildlife, except for authorized hunting activities in accordance with California Department of Fish and Wildlife regulations, and possessing unlawfully taken wildlife or portions thereof, is prohibited.

18. Disturbing wildlife with audio devices, including speakers, air horns, and musical instruments, is prohibited.

19. Taking off or landing of aircraft, including unmanned aerial vehicles, is prohibited.

20. Paragliding, hang-gliding, and similar recreational uses are prohibited from taking off or landing within the Cotoni-Coast unit of the California Coastal National Monument.

21. Recreational target shooting is prohibited.

22. The following persons are exempt from these final supplementary rules: Any Federal, State, or local officer or employee in the scope of their duties; members of any organized law enforcement, rescue, or fire-fighting force in performance of an official duty; and any person whose activities are authorized in writing by the BLM.

Enforcement

Any person who violates any of these supplementary rules may be tried before a United States Magistrate and fined in accordance with 18 U.S.C. 3571, imprisoned no more than 12 months under 43 U.S.C. 1733(a) and 43 CFR 8360.0-7, or both. In accordance with 43 CFR 8365.1-7, State or local officials may also impose penalties for violations of California law.

(Authority: 43 CFR 8365.1-6)

Karen Mouritsen,
BLM California State Director.

[FR Doc. 2022-25810 Filed 11-28-22; 8:45 am]

BILLING CODE 4310-40-P